BUREAU OF LABOR STATISTICS

Data Users Advisory Committee; Notice of Meeting and Agenda

The Bureau of Labor Statistics Data Users Advisory Committee will meet on Thursday, May 8th, 2014. The meeting will be held in the Postal Square Building, 2 Massachusetts Avenue NE.; Washington, DC.

The Committee provides advice to the Bureau of Labor Statistics from the points of view of data users from various sectors of the U.S. economy, including the labor, business, research, academic, and government communities, on technical matters related to the collection, analysis, dissemination, and use of the Bureau's statistics, on its published reports, and on the broader aspects of its overall mission and function.

The meeting will be held in Meeting Rooms 1, 2, and 3 of the Postal Square Building Conference Center. The schedule and agenda for the meeting are as follows:

8:30 a.m. Registration

9:00 a.m. Commissioner's welcome and review of agency developments

9:30 a.m. BLS Strategic Initiatives

• Emerging Data Needs and Rapid Response

• Alternative Data Sources

• Standardizing BLS Data Taxonomy

11:30 p.m. Trust in Government Statistics—What we do at BLS

1:30 p.m. Should the Current Employment Statistics (CES) publish 12-60 months of revisions every month?

2:30 p.m. Changes in 2010 Census areas and the effect of producing estimates for large geographic areas in the Employment Cost Index (ECI) and the Employer Costs for Employee Compensation (ECEC) programs

3:45 p.m. Using customized tables in the Office of Productivity and Technology (OPT)

4:45 p.m. Future topics and meeting wrap-up

The meeting is open to the public. Any questions concerning the meeting should be directed to Kathy Mele, Data Users Advisory Committee, on 202.691.6102. Individuals who require special accommodations should contact Ms. Mele at least two days prior to the meeting date.

Signed at Washington, DC, this 19th day of March, 2014.
Kimberley D. Hill,
Chief, Division of Management Systems, Bureau of Labor Statistics.

[FR Doc. 2014-06377 Filed 3-21-14; 8:45 am]

BILLING CODE 4510-24-P